DEPARTMENT OF HOMELAND SECURITY

Coast Guard

33 CFR Part 160

[Docket No. USCG-2005-21869]

RIN 1625-AA99

Vessel Requirements for Notices of Arrival and Departure, and Automatic Identification System; Notice of Arrival Information Collection

AGENCY: Coast Guard, DHS.

ACTION: Final rule; information collection approval.

SUMMARY: The Coast Guard announces that it has received approval from the Office of Management and Budget for an information collection request associated with notice of arrival requirements in a final rule we published in the Federal Register on January 30, 2015. In that rule, we stated we would publish a document in the Federal Register announcing the effective date of these collection-of-information related sections. This rule establishes today as the effective date for those sections.

DATES: Sections 160.204(a)(5)(vii), 160.205, and 160.208(a) and (c) are effective August 20, 2015.

FOR FURTHER INFORMATION CONTACT: If you have questions on this rule, call or email Lieutenant Commander Michael Lendvay, Office of Commercial Vessel Compliance (CG-CVC), Coast Guard; telephone 202-372-1218, email Michael.D.Lendvay@uscg.mil. If you have questions on viewing or submitting material to the docket, call Ms. Cheryl Collins, Program Manager, Docket Operations, telephone 202-366-9826.

SUPPLEMENTARY INFORMATION:

Viewing Documents Associated With This Rule

To view the final rule published on January 30, 2015 (80 FR 5282), or other documents in the docket for this rulemaking, go to www.regulations.gov, type the docket number, USCG-2005-21869, in the “SEARCH” box and click “SEARCH.” Click on “Open Docket Folder” in the first item listed. Use the following link to go directly to the docket: www.regulations.gov/#!docketDetail;D=USCG-2005-;21869.

Background

On January 30, 2015, the Coast Guard published a final rule that revised or amended existing notice of arrival and automatic identification system requirements. 80 FR 5282. The final rule delayed the effective date of 33 CFR 160.204(a)(5)(vii), 160.205, and 160.208(a) and (c) because these sections contain collection-of-information provisions that require approval by the Office of Management and Budget (OMB) under the Paperwork Reduction Act of 1995, 44 U.S.C. 3501-3520. On August 5, 2015, OMB approved the collection assigned OMB Control Number 1625-0100, Advance Notice of Vessel Arrival. Accordingly, we announce that sections 33 CFR 160.204(a)(5)(vii), 160.205, and 160.208(a) and (c) are effective August 20, 2015. The approval for this collection of information expires on February 28, 2017.

We have not yet received approval from OMB regarding the 1625-0112 collection of information, Enhanced Maritime Domain Awareness via Electronic Transmission of Vessel Transit Data, which relates to automatic identification system requirements in the January 2015 final rule (80 FR 5282).

This document is issued under the authority of 33 U.S.C. 1231.

Dated: August 14, 2015.
J.G. Lantz,
Director of Commercial Regulations and Standards, U.S. Coast Guard.

[FR Doc. 2015-20607 Filed 8-19-15; 8:45 am]

BILLING CODE 9110-04-P